DEPARTMENT OF THE INTERIOR

Office of the Secretary of the Interior

43 CFR Part 10

[NPS-WASO-NAGPRA-21514; PX.XVPAD0522.0.1]

RIN 1024-AE34

Civil Penalties Inflation Adjustments; Correction

AGENCY: Office of the Secretary, Interior.

ACTION: Interim final rule; correction.

SUMMARY: The Office of the Secretary of the Interior is correcting an interim final rule that appeared in the Federal Register on Tuesday June 28, 2016 (81 FR 41858). This rule adjusts the level of civil monetary penalties contained in U.S. Department of the Interior regulations implementing the Native American Graves Protection and Repatriation Act with an initial “catch-up” adjustment under the Federal Civil Penalties Inflation Adjustment Act Improvements Act of 2015 and Office of Management and Budget guidance. The corrections are administrative and procedural related to submitting comments.

DATES: This correction is effective August 8, 2016.

FOR FURTHER INFORMATION CONTACT: A.J. North, National Park Service, 1849 C Street NW., Washington, DC 20240, telephone: 202-513-7742.

SUPPLEMENTARY INFORMATION: In volume 81, number 124 of the Federal Register of Tuesday June 28, 2016 on page 41858, the following corrections are made:

1. On page 41858 the RIN in the heading is corrected to read as follows: 1024-AE34

2. On page 41858, in the second column, the text following • Federal eRulemaking Portal: http://www.regulations.gov. is corrected to read: Search for the Docket Number DOI-2016-0004 or RIN 1024-AE34 and follow the instructions for submitting comments.

* * * * *

Dated: July 25, 2016.
Michael J. Bean,
Principal Deputy Assistant Secretary for Fish and Wildlife and Parks.

[FR Doc. 2016-18643 Filed 8-5-16; 8:45 am]

BILLING CODE 4310-EJ-P